GENERAL SERVICES ADMINISTRATION

[OMB Control No. 3090-0288; Docket 2013-0001, Sequence 2]

Information Collection; Open Government Citizen Engagement Ratings, Rankings, and Flagging

AGENCY: Office of Citizen Services, General Services Administration (GSA).

ACTION: Notice of request for comments regarding an extension of an existing OMB information collection.

SUMMARY: Under the provisions of the Paperwork Reduction Act, the Regulatory Secretariat will be submitting to the Office of Management and Budget (OMB) a request to review and approve a previously approved information collection requirement regarding open government citizen engagement ratings, rankings, and flagging.

DATES: Comments must be submitted on or before May 24, 2013.

ADDRESSES: Submit comments identified by Information Collection 3090-0288, Open Government Citizen Engagement Ratings, Rankings, and Flagging, by any of the following methods:

• Regulations.gov: http://www.regulations.gov. Submit comments via the Federal eRulemaking portal by searching for the OMB control number. Select the link “Submit a Comment” that corresponds with “Information Collection 3090-0288, Open Government Citizen Engagement Ratings, Rankings, and Flagging”. Follow the instructions provided at the “Submit a Comment” screen. Please include your name, company name (if any), and “Information Collection 3090-0288, Open Government Citizen Engagement Ratings, Rankings, and Flagging” on your attached document.

• Mail: General Services Administration, Regulatory Secretariat (MVCB), 1275 First Street NE., Washington, DC 20417. ATTN: Hada Flowers/IC 3090-0288, Open Government Citizen Engagement Ratings, Rankings, and Flagging.

Instructions: Please submit comments only and cite Information Collection 3090-0288, Open Government Citizen Engagement Ratings, Rankings, and Flagging, in all correspondence related to this collection. All comments received will be posted without change to http://www.regulations.gov, including any personal and/or business confidential information provided.

FOR FURTHER INFORMATION CONTACT: Mr. Jonathan Rubin, General Services Administration, Office of Citizen Services, 1275 First Street NE., Washington, DC 20417; telephone number: 202-501-0855; email address: jonathan.rubin@gsa.gov.

SUPPLEMENTARY INFORMATION:

A. Purpose

The “Open Government Citizen Engagement” is a response to the Open Government Directive, which was issued on December 8, 2009 by the Director of OMB. This directive asked that executive departments and agencies take specific actions to implement the principles of transparency, participation and collaboration, as set forth in the President's January 21, 2009 Memorandum on Transparency and Open Government. GSA is creating an Open Government Citizen Engagement tool, an online collaboration tool powered by IdeaScale, as one example of methods for agencies to use in extensively engaging the public. The Open Government Citizen Engagement will allow the public to weigh in on their support for agency and public ideas, comments, suggestions, data sets, and the like, and allow agencies to engage with the public via Ratings, Rankings and Flaggings. The goal is to allow the public to rate and rank open-ended, general questions, comments and suggestions. Tools that allow rating, ranking and flagging (for example, many blogs, ideation, challenge grant platforms, and other social media tools) can be used across government. This information collection request for an emergency clearance is being submitted in order to fulfill the public engagement aspects of the Open Government initiative, and to allow all agencies to use this and similar rating, ranking, voting and flagging tools in this exercise and other exercises and meet the goals of Open Government.

B. Public Comments Are Particularly Invited On

Pursuant to section 3506(c)(2)(A) of the PRA, GSA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

C. Annual Reporting Burden

The annual public reporting and recordkeeping burden for this collection of information is estimated to average up to 1,666 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The estimated annual burden:

Respondents: 1,200,000.

Responses per Respondent: 1.

Total number of responses: 1,200,000.

Hours per Response: .0013886.

Total hours per response: 1,200,000.

Total Burden Hours: 1,666.

Obtaining Copies Of Proposals: Requesters may obtain a copy of the information collection documents from the General Services Administration, Regulatory Secretariat (MVCB), 1275 First Street NE., Washington, DC 20417, telephone 202-501-4755. Please cite 3090-0288, Open Government Citizen Engagement Ratings, Rankings, and Flagging, in all correspondence.

Dated: March 19, 2013.
Casey Coleman,
Chief Information Officer.

[FR Doc. 2013-06732 Filed 3-22-13; 8:45 am]

BILLING CODE 6820-34-P